DEPARTMENT OF COMMERCE

International Trade Administration

[A-570-863]

Honey From the People's Republic of China: Final Results and Partial Rescission of Antidumping Duty Administrative Review

AGENCY: Import Administration, International Trade Administration, Department of Commerce.

SUMMARY: On November 7, 2008, the Department of Commerce (“Department”) published the preliminary results of its administrative review of the antidumping duty order on honey from the People's Republic of China (“PRC”), covering the period of December 1, 2006, through November 30, 2007. See Sixth Administrative Review of Honey From the People's Republic of China: Preliminary Results and Partial Rescission of Antidumping Duty Administrative Review, 73 FR 66221 (November 7, 2008) (“Preliminary Results”). The Department received no comments on its Preliminary Results.

DATES: Effective Date: January 8, 2009.

FOR FURTHER INFORMATION CONTACT: Paul Walker or Scot Fullerton, AD/CVD Operations, Import Administration, International Trade Administration, U.S. Department of Commerce, 14th Street and Constitution Avenue, NW., Washington, DC 20230; telephone: (202) 482-0413 or (202) 482-1386, respectively.

Case History

After issuing the Preliminary Results on November 7, 2008, the Department provided Anhui Native Produce Import & Export Corporation (“Anhui Native”), the only participating respondent in this review, an opportunity to correct certain deficiencies in its section C database. See the Department's letter dated November 17, 2008. Specifically, as noted in the Preliminary Results, Anhui Native reported antidumping duties rather than Customs duties in its section C database. See Preliminary Results. On November 21, 2008, Anhui Native submitted a revised section C database. See Anhui Native's November 21, 2008 submission at Exhibit 1.

Additionally, the Department invited interested parties to comment on the Preliminary Results. No interested party, including Anhui Native, submitted a case brief or comments, or requested a hearing. Therefore, the Department made only one change from the Preliminary Results, incorporating Anhui Native's revised section C database in the dumping margin calculation for these final results.

Scope of Order

The products covered by the order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to the order is currently classifiable under subheadings 0409.00.00, 1702.90.90 and 2106.90.99 of the HTSUS. Although the HTSUS subheadings are provided for convenience and customs purposes, the Department's written description of the merchandise under order is dispositive.

Final Partial Rescission

In the Preliminary Results, the Department preliminarily rescinded this review with respect to the following companies: Dongtai Peak Honey Industry Co., Ltd. (“Dongtai Peak”) and Wuhu Qinshi Tangye Co., Ltd. (“Tangye”). We received no comments or information to change our preliminary rescission. Therefore, we are rescinding this administrative review with respect to Dongtai Peak and Tangye.

Final Results of the Review

The Department finds that the following margins exist for the following exporters under review for the period December 1, 2006, through November 30, 2007:

Honey From the PRC
Manufacturer/exporter | Margin (per kilogram)
Anhui Native | $2.63
PRC-wide Entity¹ | $2.63
¹ The PRC-wide entity includes Alfred L. Wolff (Beijing) Co., Ltd., Cheng Du Wai Yuan Bee Products Co., Ltd., Haoliluck Co., Ltd., Hubei Yusun Co., Ltd., Inner Mongolia Youth Trade Development Co., Ltd., Mgl. Yung Sheng Honey Co., Ltd. (also DBA Fresh Honey Co., Ltd.), Nefelon Limited Company and Qinhuangdao Municipal Dafeng Industrial Co., Ltd.

Assessment of Antidumping Duties

The Department will determine, and U.S. Customs and Border Protection (“CBP”) shall assess, antidumping duties on all appropriate entries pursuant to section 751(a)(1)(B) of the Tariff Act of 1930, as amended (“Act”), and 19 CFR 351.212(b). The Department intends to issue appropriate assessment instructions directly to CBP 15 days after the date of publication of the final results of this review.

Consistent with the Fifth AR Final Results, we will direct CBP to assess importer-specific assessment rates based on the resulting per-unit (i.e., per kilogram) amount on each entry of the subject merchandise during the period of review. See Honey from the People's Republic of China: Final Results and Rescission, In Part, of Aligned Antidumping Duty Administrative Review and New Shipper Review, 73 FR 42321 (July 21, 2008) (“Fifth AR Final Results”). For assessment purposes, we calculated importer-specific assessment rates for honey from the PRC. Specifically, we divided the total duties for each importer by the total quantity of subject merchandise sold to that importer during the period of review (“POR”) to calculate a per-unit assessment amount. We will direct CBP to assess importer-specific assessment rates based on the resulting per-unit (i.e., per kilogram) amount on each entry of the subject merchandise during the POR if any importer-specific assessment rate calculated in the final results of this review is above de minimis.

Cash Deposit Requirements

The following cash-deposit requirements will be effective upon publication of the final results for shipments of the subject merchandise entered, or withdrawn from warehouse, for consumption on or after the publication date of the final results, as provided by section 751(a)(2)(C) of the Act: (1) For subject merchandise exported by Anhui Native the cash deposit rate will be $2.63 per kilogram; (2) for all other PRC exporters of subject merchandise which have not been found to be entitled to a separate rate and, thus, are a part of the PRC-wide entity, the cash-deposit rate will be the PRC-wide rate of $2.63 per-kilogram; (3) for previously investigated or reviewed PRC and non-PRC exporters not listed above that have a separate rate, the cash deposit rate will continue to be the exporter-specific rate published for the most recent period; (4) for all non-PRC exporters of subject merchandise which have not received their own rate, the cash-deposit rate will be the rate applicable to the PRC exporter that supplied that non-PRC exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a final reminder to parties subject to the administrative protective order (“APO”) of their responsibility concerning the return or destruction of proprietary information disclosed under the APO in accordance with 19 CFR 351.305. Timely written notification of the return or destruction of APO materials or conversion to judicial protective order is hereby requested. Failure to comply with the regulations and the terms of an APO is a sanctionable violation.

This administrative review and notice is in accordance with sections 751(a)(1) and 777(i)(1) of the Act.

Dated: December 30, 2008.
David M. Spooner,
Assistant Secretary for Import Administration.

[FR Doc. E9-66 Filed 1-7-09; 8:45 am]

BILLING CODE 3510-DS-P